DEPARTMENT OF DEFENSE

48 CFR Part 203

[DFARS Case 99-D028]

Defense Federal Acquisition Regulation Supplement; Anticompetitive Teaming

AGENCY: Department of Defense (DoD).

ACTION: Proposed rule; withdrawal.

SUMMARY: DoD is withdrawing the proposed rule published at 66 FR 55157 on November 1, 2001. The rule proposed amendments to the Defense Federal Acquisition Regulation Supplement (DFARS) to add policy addressing exclusive teaming arrangements. The proposed amendments specified that certain exclusive teaming arrangements may evidence violations of the antitrust laws. Public comments received on this proposed rule and on an earlier proposed rule published at 64 FR 63002 on November 18, 1999, indicated that there is no demonstrated need for DFARS guidance on this subject. Therefore, DoD is withdrawing the proposed rule.

FOR FURTHER INFORMATION CONTACT: Ms. Susan Schneider, Defense Acquisition Regulations Council, OUSD(AT&L)DP(DAR), IMD 3D139, 3062 Defense Pentagon, Washington, DC 20301-3062. Telephone (703) 602-0326; facsimile (703) 602-0350. Please cite DFARS Case 99-D028.

Michele P. Peterson,
Executive Editor, Defense Acquisition Regulations Council.

[FR Doc. 02-9050 Filed 4-12-02; 8:45 am]

BILLING CODE 5001-08-P